DEPARTMENT OF TRANSPORTATION

Federal Motor Carrier Safety Administration

[Docket No. FMCSA-2015-0347]

Qualification of Drivers; Exemption Applications; Vision

AGENCY: Federal Motor Carrier Safety Administration (FMCSA), DOT.

ACTION: Notice of applications for exemptions; request for comments.

SUMMARY: FMCSA announces receipt of applications from 28 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before [Insert date 30 days after date of publication in the Federal Register]. All comments will be investigated by FMCSA. The exemptions will be issued the day after the comment period closes.

ADDRESSES: You may submit comments bearing the Federal Docket Management System (FDMS) Docket No. FMCSA-2015-0347 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 28 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

David W. Anderson

Mr. Anderson, 47, has had amblyopia in his left eye since childhood. The visual acuity in his right eye is 20/20, and in his left eye, 20/50. Following an examination in 2015, his optometrist stated, “It is my opinion that David's vision is more than sufficient to perform the driving tasks required to operate a commercial vehicle.” Mr. Anderson reported that he has driven straight trucks for 19 years, accumulating 190,000 miles and tractor-trailer combinations for 19 years, accumulating 190,000 miles. He holds a Class A CDL from Oregon. His driving record for the last 3 years shows no crashes and no convictions for moving violations in a CMV.

Charles H. Baim

Mr. Baim, 57, has had a retinal detachment in his left eye since childhood. The visual acuity in his right eye is 20/20, and in his left eye, 20/150. Following an examination in 2015, his optometrist stated, “In my medical opinion, Mr. Bain has sufficient vision to p0erform [sic] the driving tasks required to operate a commercial vehicle.” Mr. Baim reported that he has driven tractor-trailer combinations for 35 years, accumulating 2.1 million miles. He holds a Class AM CDL from Pennsylvania. His driving record for the last 3 years shows no crashes and no convictions for moving violations in a CMV.

Troy C. Blackburn

Mr. Blackburn, 40, has had an embryonic cataract in his right eye since childhood. The visual acuity in his right eye is no light perception, and in his left eye, 20/20. Following an examination in 2015, his optometrist stated, “Based on Mr. Blackburn's exemplary driving records, and the excellent vision he possesses in his left eye, I strongly feel that he has the necessary vision to be a safe and effective truck driver/operator.” Mr. Blackburn reported that he has driven straight trucks for 11 years, accumulating 385,000 miles and tractor-trailer combinations for 11 years, accumulating 363,000 miles. He holds a Class A CDL from Ohio. His driving record for the last 3 years shows no crashes and no convictions for moving violations in a CMV.

Johnnie E. Byler

Mr. Byler, 38, has had refractive amblyopia in his right eye since birth. The visual acuity in his right eye is 20/400, and in his left eye, 20/20. Following an examination in 2015, his optometrist stated, “In my opinion, Johnnie's corrected vision and ocular health status are adequate for him operate [sic] the driving tasks required to operate a commercial vehicle.” Mr. Byler reported that he has driven straight trucks for 6 years, accumulating 498,000 miles. He holds an operator's license from Pennsylvania. His driving record for the last 3 years shows no crashes and no convictions for moving violations in a CMV.

Raymond E. Catanio

Mr. Catanio, 75, has had amblyopia in his right eye since childhood. The visual acuity in his right eye is 20/200, and in his left eye, 20/20. Following an examination in 2015, his ophthalmologist stated, “In my medical opinion, he has sufficient vision to perform tasks required to operate a commercial vehicle.” Mr. Catanio reported that he has driven straight trucks for 55 years, accumulating 2.2 million miles and tractor-trailer combinations for 55 years, accumulating 165,000 miles. He holds a Class A CDL from New Jersey. His driving record for the last 3 years shows no crashes and no convictions for moving violations in a CMV.

Dana L. Colberg

Mr. Colberg, 63, has optic atrophy in his left eye due to a traumatic incident in 1971. The visual acuity in his right eye is 20/20, and in his left eye, hand motion. Following an examination in 2015, his optometrist stated, “In my opinion, Dana's right eye provides vision sufficient to perform the driving tasks required to operate a commercial vehicle.” Mr. Colberg reported that he has driven straight trucks for 5 years, accumulating 225,000 miles and tractor-trailer combinations for 32 years, accumulating 2.72 million miles. He holds a Class A CDL from Oregon. His driving record for the last 3 years shows no crashes and no convictions for moving violations in a CMV.

Peter D. Costas

Mr. Costas, 56, has had a retinal detachment in his right eye since 2009. The visual acuity in his right eye is 20/400, and in his left eye, 20/30. Following an examination in 2015, his ophthalmologist stated, “It is my clinical opinion that he is able to drive and has sufficient visualization to meet the criteria for commercial vehicle operation and that his visual acuity has been stable since his last operation, which was in 2010.” Mr. Costas reported that he has driven straight trucks for 28 years, accumulating 420,000 miles. He holds a operator's license from New York. His driving record for the last 3 years shows no crashes and no convictions for moving violations in a CMV.

Darrin G. Davis

Mr. Davis, 49, has had strabismic amblyopia in his right eye since birth. The visual acuity in his right eye is 20/80, and in his left eye, 20/20. Following an examination in 2015, his optometrist stated, “In my medical opinion, Mr [sic] Davis has sufficient vision to perform the driving tasks required to operate a commercial motor vehicle.” Mr. Davis reported that he has driven tractor-trailer combinations for 25 years, accumulating 3 million miles. He holds a Class ABCD CDL from Wisconsin. His driving record for the last 3 years shows no crashes and no convictions for moving violations in a CMV.

Rene Hernandez Gonzalez

Mr. Hernandez Gonzalez, 44, has had strabismus amblyopia in his left eye since birth. The visual acuity in his right eye is 20/20, and in his left eye, 20/500. Following an examination in 2015, his optometrist stated, “Patient does have sufficient vision OU to operate a commercial vehicle, but the field of vision has not been examined at our office today.” Mr. Hernandez Gonzalez reported that he has driven straight trucks for 3 years, accumulating 48,000 miles. He holds an operator's license from Florida. His driving record for the last 3 years shows no crashes and no convictions for moving violations in a CMV.

Johnnie W. Hines, Jr.

Mr. Hines, 49, has complete loss of vision in his right eye due to a traumatic incident in childhood. The visual acuity in his right eye is no light perception, and in his left eye, 20/20. Following an examination in 2015, his optometrist stated, “He has sufficient vision on [sic] OS to perform commercial vehicle driving tasks with the assistance of passenger and drivers side mirrors.” Mr. Hines reported that he has driven straight trucks for 15 years, accumulating 750,000 miles. He holds an operator's license from Florida. His driving record for the last 3 years shows no crashes and no convictions for moving violations in a CMV.

Dean L. Knutson

Mr. Knutson, 61, has had amblyopia in his right eye since birth. The visual acuity in his right eye is 20/100, and in his left eye, 20/20. Following an examination in 2015, his optometrist stated, “I also certify, that in my medical opinion, the patient has sufficient vision to perform the driving tasks required to operate a commercial vehicle.” Mr. Knutson reported that he has driven straight trucks for 5 years, accumulating 180,000 miles. He holds a Class A3 CDL from South Dakota. His driving record for the last 3 years shows no crashes and no convictions for moving violations in a CMV.

Melvin L. Lester

Mr. Lester, 52, has complete loss of vision in his left eye due to a traumatic incident in childhood. The visual acuity in his right eye is 20/20, and in his left eye, no light perception. Following an examination in 2015, his optometrist stated, “It is my opinion that Mr. Lester is capable of perform [sic] the driving tasks required to operate a commercial vehicle.” Mr. Lester reported that he has driven straight trucks for 8 years, accumulating 576,000 miles, and tractor-trailer combinations for 16 years, accumulating 1.84 million miles. He holds a Class A CDL from Mississippi. His driving record for the last 3 years shows no crashes and no convictions for moving violations in a CMV.

Gerald R. Metzler

Mr. Metzler, 60, has a prosthetic right eye due to a traumatic incident in 1962. The visual acuity in his right eye is no light perception, and in his left eye, 20/20. Following an examination in 2015, his optometrist stated, “In my medical opinion Gerald Metzler has sufficient vision to perform the driving tasks required to operate a commercial vehicle.” Mr. Metzler reported that he has driven straight trucks for 31 years, accumulating 542,500 miles and tractor-trailer combinations for 3 years, accumulating 24,000 miles. He holds a Class AM CDL from Pennsylvania. His driving record for the last 3 years shows no crashes and no convictions for moving violations in a CMV.

Kory M. Nelson

Mr. Nelson, 32, has a prosthetic left eye due to a traumatic incident in 2001. The visual acuity in his right eye is 20/15, and in his left eye, no light perception. Following an examination in 2015, his ophthalmologist stated, “The examination of the right eye is entirely normal with the exception of mild refractive error which has not changed significantly when compared to his current glasses. I believe that he is able to perform the driving tasks required to operate a commercial vehicle.” Mr. Nelson reported that he has driven straight trucks for 3 years, accumulating 262,500. He holds an operator's license from Maryland. His driving record for the last 3 years shows no crashes and 2 convictions for moving violations in a CMV; in one he exceeded the speed limit by 15 mph and in the other he was impeding traffic with a commercial motor vehicle.

Douglas L. Peterson

Mr. Peterson, 76, has had age-related macular degeneration in his left eye since 2010. The visual acuity in his right eye is 20/20, and in his left eye, 20/400. Following an examination in 2015, his ophthalmologist stated, “In my medical opinion, Douglas Peterson has sufficient vision to perform the driving tasks required to operate a commercial vehicle.” Mr. Peterson reported that he has driven straight trucks for 35 years, accumulating 700,000 miles, and tractor-trailer combinations for 10 years, accumulating 750,000 miles. He holds a Class ABCD CDL from Wisconsin. His driving record for the last 3 years shows no crashes and no convictions for moving violations in a CMV.

Ramon S. Puente

Mr. Puente, 34, has a macular scar in his right eye due to a traumatic incident in 2003. The visual acuity in his right eye is 20/300, and in his left eye, 20/20. Following an examination in 2015, his optometrist stated, “I certify that his medical/visual condition does NOT preclude him from operating a commercial vehicle.” Mr. Puente reported that he has driven straight trucks for 10 years, accumulating 3,500 miles and tractor-trailer combinations for 10 years, accumulating 3,500 miles. He holds a Class A CDL from Iowa. His driving record for the last 3 years shows no crashes and no convictions for moving violations in a CMV.

Dennis W. Rhoades

Mr. Rhoades, 59, has had refractive amblyopia in his right eye since childhood. The visual acuity in his right eye is 20/60, and in his left eye, 20/20. Following an examination in 2015, his optometrist stated, “It remains my opinion that Mr. Dennis Rhoades has more that [sic] sufficient vision to safely operate a commercial vehicle.” Mr. Rhoades reported that he has driven straight trucks for 39 years, accumulating 1.17 million miles and tractor-trailer combinations for 39 years, accumulating 585,000 miles. He holds a Class A CDL from Vermont. His driving record for the last 3 years shows no crashes and no convictions for moving violations in a CMV.

Jose H. Rivas

Mr. Rivas, 56, has optic nerve damage in his left eye due to a traumatic incident in 1987. The visual acuity in his right eye is 20/20, and in his left eye, no light perception. Following an examination in 2015, his ophthalmologist stated, “I certify in my medical opinion Mr. Rivas is able to perform the task required to operate a commercial vehicle.” Mr. Rivas reported that he has driven tractor-trailer combinations for 32 years, accumulating 576,000 miles. He holds a Class A CDL from New Mexico. His driving record for the last 3 years shows no crashes and no convictions for moving violations in a CMV.

Joseph T. Saba

Mr. Saba, 36, has had amblyopia in his right eye since childhood. The visual acuity in his right eye is 20/160, and in his left eye, 20/20. Following an examination in 2015, his optometrist stated, “The amblyopia in his right eye has not changed since I first examined him on 7/28/1998 . . . In my opinion has condition has not changed and therefore should not restrict ability to operate a commercial motor vehicle.” Mr. Saba reported that he has driven straight trucks for 15 years, accumulating 375,000 miles. He holds a Class B CDL from Minnesota. His driving record for the last 3 years shows no crashes and no convictions for moving violations in a CMV.

LeRoy W. Scharkey

Mr. Scharkey, 74, has had a corneal scar in his left since 2005. The visual acuity in his right eye is 20/25, and in his left eye, 20/100. Following an examination in 2015, his optometrist stated, “In my opinion, Mr. Scharkey has sufficient vision to perform vision tasks required to operate a commercial vehicle.” Mr. Scharkey reported that he has driven straight trucks for 5 years, accumulating 50,000 miles, tractor-trailer combinations for 5 years, accumulating 12,500 miles. He holds a Class A CDL from Minnesota. His driving record for the last 3 years shows no crashes and no convictions for moving violations in a CMV.

Roger H. Schwisow

Mr. Schwisow, 72, has had amblyopia in his left eye since birth. The visual acuity in his right eye is 20/20, and in his left eye, 20/400. Following an examination in 2014, his optometrist stated, “Based on this testing I would say that in my opinion he has sufficient vision to perform driving tasks required to operate a commercial vehicle.” Mr. Schwisow reported that he has driven straight trucks for 59 years, accumulating 1.18 million miles, tractor-trailer combinations for 44 years, accumulating 220,000 miles. He holds a Class B CDL from Nebraska. His driving record for the last 3 years shows no crashes and 1 conviction for a moving violation in a CMV; he exceeded the speed limit by 6-10 MPH.

Walton W. Smith, Jr.

Mr. Smith, Jr., 62, has a prosthetic right eye due to a traumatic incident in 1971. The visual acuity in his right eye is no light perception, and in his left eye, 20/20. Following an examination in 2015, his optometrist stated, “In my opinion Mr. Smith has sufficient vision to continue safely operating a commercial vehicle.” Mr. Smith reported that he has driven straight trucks for 40 years, accumulating 120,000 miles, tractor-trailer combinations for 30 years, accumulating 450,000 miles. He holds a Class A CDL from Virginia. His driving record for the last 3 years shows no crashes and no convictions for moving violations in a CMV.

Dustin W. Tharp

Mr. Tharp, 34, has had a prosthetic right eye due to a persistent primary hyperplastio vitreous since childhood. The visual acuity in his right eye has no light perception, and in his left eye, 20/20. Following an examination in 2015, his optometrist stated, “It is my medical opinion that Mr. Tharp has sufficient vision to perform the driving task required to operate a commercial vehicle.” Mr. Tharp reported that he has driven straight trucks for 8 months, accumulating 15,000 miles and tractor-trailer combinations for 15 years, accumulating 187,500 miles. He holds a Class A CDL from Iowa. His driving record for the last 3 years shows no crashes and no convictions for moving violations in a CMV.

Aaron D. Tillman

Mr. Tillman, 48, has had refractive amblyopia in his right eye since childhood. The visual acuity in his right eye is 20/70, and in his left eye, 20/20. Following an examination in 2015, his optometrist stated, “It is my opinion that his vision is sufficient to drive and operate a commercial vehicle.” Mr. Tillman reported that he has driven straight trucks for 5 years, accumulating 340,000 miles, tractor-trailer combinations for 8 years, accumulating 680,000 miles, and buses for 2 years, accumulating 38,000 miles. He holds a Class CA CDL from Delaware. His driving record for the last 3 years shows no crashes and no convictions for moving violations in a CMV.

Larry J. Weber

Mr. Weber, 73, has had refractive amblyopia in his left eye since birth. The visual acuity in his right eye is 20/25, and in his left eye, 20/200. Following an examination in 2015, his optometrist stated, “In my medical opinion, Larry Weber has sufficient vision to perform the driving tasks required to operate a commercial vehicle.” Mr. Weber reported that he has driven straight trucks for 2 years, accumulating 24,000 miles, tractor-trailer combinations for 40 years, accumulating 2.6 million miles, and buses for 3 years, accumulating 240,000 miles. He holds a Class ABCDM CDL from Wisconsin. His driving record for the last 3 years shows no crashes and one conviction for a moving violation in a CMV; the driver was cited for improper/erratic lane change.

Richard N. Wescott

Mr. Wescott, 50, has had refractive amblyopia in his left eye since childhood. The visual acuity in his right eye is 20/20, and in his left eye, 20/80. Following an examination in 2015, his optometrist stated, “Mr. Wescott has sufficient vision to perform the driving tasks required to operate a commercial vehicle.” Mr. Wescott reported that he has driven tractor-trailer combinations for 13 years, accumulating 1.43 million miles. He holds a Class A CDL from Maine. His driving record for the last 3 years shows no crashes and no convictions for moving violations in a CMV.

Oscar M. Wilkins

Mr. Wilkins, 65, has had reduced vision due to retinal membrane in his left eye since 2010. The visual acuity in his right eye is 20/25, and in his left eye, 20/50. Following an examination in 2015, his optometrist stated, “It is my professional opinion that Mr. Wilkins has adequate visual skills to operate commercial vehicles without restrictions.” Mr. Wilkins reported that he has driven straight trucks for 35 years, accumulating 700,000 miles, and tractor-trailer combinations for 35 years, accumulating 700,000 miles. He holds a Class A CDL from Maine. His driving record for the last 3 years shows no crashes and no convictions for moving violations in a CMV.

Rodney W. Wright

Mr. Wright, 51, has had amblyopia in his left eye since childhood. The visual acuity in his right eye is 20/15, and in his left eye, 20/60. Following an examination in 2015, his optometrist stated, “As a result, without question, it is my professional medical opinion that Rodney has more than sufficient vision to perform all the tasks necessary for operating a commercial vehicle.” Mr. Wright reported that he has driven straight trucks for 20 years, accumulating 520,000 miles. He holds a Class B CDL from Pennsylvania. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2015-0347 in the “Keyword” box, and click “Search.” When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period and may change this notice based on your comments.

Viewing Comments and Documents

To view comments, as well as documents mentioned in this preamble as being available in the docket, go to http://www.regulations.gov and insert the docket number FMCSA-2015-0347 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Dated: December 31, 2015.
Larry W. Minor,
Associate Administrator for Policy.

[FR Doc. 2016-00472 Filed 1-11-16; 8:45 am]

BILLING CODE 4910-EX-P